COMMODITY FUTURES TRADING COMMISSION

Sunshine Act Meeting

Agency Holding the Meeting: Commodity Futures Trading Commission.

Time and Date: 11:00 a.m., Friday, October 13, 2000.

Status: Closed.

Matters to be Considered: Surveillance Matters.

Contact Person for more Information: Jean A. Webb, 202-418-5100.

Jean A. Webb,
Sectretary of the Commission.

[FR Doc. 00-24872 Filed 9-33-00; 4:45 pm]

BILLING CODE 6351-01-M